DEPARTMENT OF ENERGY

Federal Energy Regulatory Commission

Combined Notice of Filings #2

Take notice that the Commission received the following electric rate filings:

Docket Numbers: ER14-2756-000.

Applicants: California Independent System Operator Corporation.

Description: § 205(d) rate filing per 35.13(a)(2)(iii): 2014-09-02_ClarifyCRRSettlements to be effective 9/2/2014.

Filed Date: 9/2/14.

Accession Number: 20140902-5260.

Comments Due: 5 p.m. ET 9/23/14.

Docket Numbers: ER14-2756-000.

Applicants: California Independent System Operator Corporation.

Description: Report Filing: 2014-09-Supplement CRRS SettlementClarification to be effective N/A.

Filed Date: 9/3/14.

Accession Number: 20140903-5054.

Comments Due: 5 p.m. ET 9/23/14.

Docket Numbers: ER14-2798-001.

Applicants: Beech Ridge Energy II LLC.

Description: Tariff Amendment per 35.17(b): Supplement to Market-Based Rate Application to be effective 11/8/2014.

Filed Date: 9/8/14.

Accession Number: 20140908-5109.

Comments Due: 5 p.m. ET 9/29/14.

Docket Numbers: ER14-2799-001.

Applicants: Beech Ridge Energy Storage LLC.

Description: Tariff Amendment per 35.17(b): Supplement to Market-Based Rate Application to be effective 11/8/2014.

Filed Date: 9/8/14.

Accession Number: 20140908-5111.

Comments Due: 5 p.m. ET 9/29/14.

Docket Numbers: ER14-2800-000.

Applicants: Regulus Solar, LLC.

Description: Compliance filing per 35: Compliance Tariff Revisions in the Availability section to be effective 8/12/2014.

Filed Date: 9/8/14.

Accession Number: 20140908-5112.

Comments Due: 5 p.m. ET 9/29/14.

Docket Numbers: ER14-2801-000.

Applicants: Puget Sound Energy, Inc.

Description: § 205(d) rate filing per 35.13(a)(2)(iii): Revisions re Schedules 5 & 6—Order No. 789 to be effective 10/1/2014.

Filed Date: 9/8/14.

Accession Number: 20140908-5121.

Comments Due: 5 p.m. ET 9/29/14.

Docket Numbers: ER14-2802-000.

Applicants: CP Energy Marketing (US) Inc.

Description: § 205(d) rate filing per 35.13(a)(2)(iii): Request for Category 1 Status and Request for Waiver of Filing of Triennial Mark to be effective 9/9/2014.

Filed Date: 9/8/14.

Accession Number: 20140908-5128.

Comments Due: 5 p.m. ET 9/29/14.

Docket Numbers: ER14-2803-000.

Applicants: CPI USA North Carolina LLC.

Description: § 205(d) rate filing per 35.13(a)(2)(iii): Request for Category 1 Status and Request for Waiver of Filing of Triennial Mark to be effective 9/9/2014.

Filed Date: 9/8/14.

Accession Number: 20140908-5129.

Comments Due: 5 p.m. ET 9/29/14.

Docket Numbers: ER14-2804-000.

Applicants: PJM Interconnection, L.L.C.

Description: § 205(d) rate filing per 35.13(a)(2)(iii): Original Service Agreement No. 3934; Queue No. R30 to be effective 8/7/2014.

Filed Date: 9/8/14.

Accession Number: 20140908-5171.

Comments Due: 5 p.m. ET 9/29/14.

Take notice that the Commission received the following qualifying facility filings:

Docket Numbers: QF14-658-000; QF14-659-000; QF14-660-000; QF14-661-000; QF14-662-000; QF14-663-000; QF14-664-000; QF14-665-000; QF14-666-000.

Applicants: Minwind I, LLC, Minwind II, LLC, Minwind III, LLC, Minwind IV, LLC, Minwind V, LLC, Minwind VI, LLC, Minwind VII, LLC, Minwind VIII, LLC, Minwind IX, LLC.

Description: Refund Report with respect to nine small wind generating facilities managed by Minwind Energy, LLC.

Filed Date: 9/8/14.

Accession Number: 20140908-5151.

Comments Due: 5 p.m. ET 9/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2014.
Nathaniel J. Davis, Sr.,
Deputy Secretary.

[FR Doc. 2014-21976 Filed 9-15-14; 8:45 am]

BILLING CODE 6717-01-P